DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than September 8, 2003.

Interested persons are invited to submit written comments regarding the subject matter of the investigations to the Director, Division of Trade Adjustment Assistance, at the address shown below, not later than September 8, 2003.

The petitions filed in this case are available for inspection at the Office of the Director, Division of Trade Adjustment Assistance, Employment and Training Administration, U.S. Department of Labor, Room C-5311, 200 Constitution Avenue, NW., Washington, DC 20210.

Signed at Washington, DC, this 15th day of August, 2003.
Linda G. Poole,
Acting Director, Division of Trade Adjustment Assistance.

Appendix.—Petitions Instituted Between 08/04/2003 and 08/08/2003
TA-W | Subject firm (petitioners) | Location | Date of institution | Date of petition
52,450 | VF Imagewear (Comp) | Tupelo, MS | 08/04/2003 | 08/01/2003
52,451 | Saurer, Inc. (Wkrs) | Charlotte, NC | 08/04/2003 | 07/28/2003
52,452 | Elastic Corp. of America, Inc. (Comp) | Woolwine, VA | 08/04/2003 | 07/22/2003
52,453 | National Metal Abrasive (USWA) | Wadsworth, OH | 08/04/2003 | 07/30/2003
52,454 | Pillowtex Corporation (UNITE) | Scottsboro, AL | 08/04/2003 | 07/31/2003
52,455 | Waterloo Industries (Wkrs) | Pocahontas, AR | 08/04/2003 | 07/24/2003
52,456 | Cutler Hammer, Inc. (Comp) | Brooksville, FL | 08/04/2003 | 08/01/2003
52,457 | Coherent, Inc. (Comp) | Auburn, CA | 08/05/2003 | 08/04/2003
52,458 | APW (Comp) | Creedmoor, NC | 08/05/2003 | 08/04/2003
52,459 | Tingley Rubber (USWA) | So. Plainfield, NJ | 08/05/2003 | 08/04/2003
52,460 | Alice Manufacturing (Wkrs) | Easley, SC | 08/05/2003 | 08/01/2003
52,461 | Fishing Vessel (F/V) Alert (Comp) | Veronia, OR | 08/05/2003 | 07/22/2003
52,462 | F/V Joseph Booney (Comp) | Cordova, AK | 08/05/2003 | 07/29/2003
52,463 | Kannapolis Energy Partners, LLC (Comp) | Kannapolis, NC | 08/05/2003 | 07/31/2003
52,464 | Ace Packaging Systems (Comp) | Newport, MI | 08/05/2003 | 08/04/2003
52,465 | Moog Aircraft (Comp) | Salt Lake City, UT | 08/05/2003 | 07/31/2003
52,466 | USR Optonix, Inc. (Comp) | Hackettstown, NJ | 08/05/2003 | 07/30/2003
52,467 | Johnson and Johnson Wound Management (Comp) | Sherman, TX | 08/05/2003 | 08/04/2003
52,468 | Union Underwear Co., Inc. (Comp) | Fayette, AL | 08/05/2003 | 08/04/2003
52,469 | Shell E and P Company (Comp) | Houston, TX | 08/05/2003 | 07/30/2003
52,470 | Premium Security (Wkrs) | Kentwood, MI | 08/05/2003 | 08/01/2003
52,471 | Eureka Company (The) (Wkrs) | Bloomington, IL | 08/05/2003 | 08/04/2003
52,472 | Arlee Home Fashions (Wkrs) | Mexico, MO | 08/05/2003 | 07/31/2003
52,473 | Maytag Corporation (Comp) | Galesburg, IL | 08/06/2003 | 08/06/2003
52,474 | Kulicke and Soffa (Wkrs) | Austin, TX | 08/07/2003 | 07/28/2003
52,475 | Pillowtex Corporation (UNITE) | Scottsboro, Al | 08/08/2003 | 08/06/2003
52,476 | Pillowtex Corporation (Comp) | Fieldale, VA | 08/08/2003 | 08/06/2003
52,477 | Pillowtex Corporation (Comp) | Eden, NC | 08/08/2003 | 08/06/2003
52,478 | Pillowtex Corporation (Comp) | China Grove, NC | 08/08/2003 | 08/06/2003
52,479 | Pillowtex Corporation (Comp) | Rockwell, NC | 08/08/2003 | 08/06/2003
52,480 | Pillowtex Corporation (Comp) | Concord, NC | 08/08/2003 | 08/06/2003
52,481 | Pillowtex Corporation (Comp) | Union, SC | 08/08/2003 | 08/06/2003
52,482 | Pillowtex Corporation (Comp) | Mauldin, SC | 08/08/2003 | 08/06/2003
52,483 | Pillowtex Corporation (Comp) | Dallas, TX | 08/08/2003 | 08/06/2003
52,484 | Pillowtex Corporation (Comp) | Chicago, IL | 08/08/2003 | 08/06/2003
52,485 | Pillowtex Corporation (Comp) | Hanover, PA | 08/08/2003 | 08/06/2003
52,486 | Pillowtex Corporation (Comp) | Los Angeles, CA | 08/08/2003 | 08/06/2003
52,487 | Pillowtex Corporation (Comp) | Tunica, MS | 08/08/2003 | 08/06/2003
52,488 | McKenzie Forest Products, LLC (Comp) | Myrtle Point, OR | 08/08/2003 | 08/06/2003
52,489 | Portola Packaging, Inc. (Comp) | Sumter, SC | 08/08/2003 | 08/07/2003
52,490 | Vernon Plastics (UNITE) | Haverhill, MA | 08/08/2003 | 08/07/2003
52,491 | Tembec Woodsville, Inc. (Wkrs) | Woodsville, NH | 08/08/2003 | 08/06/2003
52,492 | Buckeye Lumberton, Inc. (Comp) | Lumberton, NC | 08/08/2003 | 08/06/2003

[FR Doc. 03-22122 Filed 8-28-03; 8:45 am]

BILLING CODE 4510-30-M